DEPARTMENT OF COMMERCE

National Oceanic and Atmospheric Administration

50 CFR Part 679

[Docket No. 060216044-6044-01; I.D. 112805B]

Fisheries of the Exclusive Economic Zone Off Alaska; Bering Sea and Aleutian Islands; 2006 and 2007 Final Harvest Specifications for Groundfish

AGENCY: National Marine Fisheries Service (NMFS), National Oceanic and Atmospheric Administration (NOAA), Commerce.

ACTION: Final rule; apportionment of reserves; closures.

SUMMARY: NMFS announces 2006 and 2007 final harvest specifications and prohibited species catch (PSC) allowances for the groundfish fishery of the Bering Sea and Aleutian Islands management area (BSAI). This action is necessary to establish harvest limits for groundfish during the 2006 and 2007 fishing years and to accomplish the goals and objectives of the Fishery Management Plan for Groundfish of the Bering Sea and Aleutian Islands Management Area (FMP). The intended effect of this action is to conserve and manage the groundfish resources in the BSAI in accordance with the Magnuson-Stevens Fishery Conservation and Management Act (Magnuson-Stevens Act).

DATES: The 2006 and 2007 final harvest specifications and associated apportionment of reserves are effective at 1200 hrs, Alaska local time (A.l.t.), March 3, 2006 through 2400 hrs, A.l.t., December 31, 2007.

ADDRESSES: Copies of the Final Environmental Assessment (EA) and Final Regulatory Flexibility Analysis (FRFA) prepared for this action are available from Alaska Region, NMFS, P.O. Box 21668, Juneau, AK 99802, Attn: Records Officer or from the Alaska Region Web site at http://www.fakr.noaa.gov. Copies of the 2005 Stock Assessment and Fishery Evaluation (SAFE) report for the groundfish resources of the BSAI, dated November 2005, are available from the North Pacific Fishery Management Council (Council), West 4th Avenue, Suite 306, Anchorage, AK 99510-2252 (907-271-2809) or from its Web site at http://www.fakr.noaa.gov/npfmc.

FOR FURTHER INFORMATION CONTACT: Mary Furuness, 907-586-7228 or e-mail mary.furuness@noaa.gov.

SUPPLEMENTARY INFORMATION: Federal regulations at 50 CFR part 679 implement the FMP and govern the groundfish fisheries in the BSAI. The Council prepared the FMP, and NMFS approved it under the Magnuson-Stevens Act. General regulations governing U.S. fisheries also appear at 50 CFR part 600.

The FMP and its implementing regulations require NMFS, after consultation with the Council, to specify annually the total allowable catch (TAC) for each target species and for the “other species” category, the sum must be within the optimum yield range of 1.4 million to 2.0 million metric tons (mt) (see § 679.20(a)(1)(i)). Also specified are apportionments of TACs, and Community Development Quota (CDQ) reserve amounts, PSC allowances, and prohibited species quota (PSQ) reserve amounts. Section 679.20(c)(3) further requires NMFS to consider public comment on the proposed annual TACs and apportionments thereof and the proposed PSC allowances, and to publish final harvest specifications in the Federal Register. The final harvest specifications listed in Tables 1 through 17 of this action satisfy these requirements. For 2006 and 2007, the sum of TACs for each year is 2 million mt.

The 2006 and 2007 proposed harvest specifications and PSC allowances for the groundfish fishery of the BSAI were published in the Federal Register on December 16, 2005 (70 FR 74723). Comments were invited and accepted through January 17, 2006. NMFS received 1 letter with several comments on the proposed harvest specifications. These comments are summarized and responded to in the Response to Comments section. NMFS consulted with the Council during the December 2005 Council meeting in Anchorage, AK. After considering public comments, as well as biological and economic data that were available at the Council's December meeting, NMFS is implementing the 2006 and 2007 final harvest specifications as recommended by the Council.

Acceptable Biological Catch (ABC) and TAC Harvest Specifications

The final ABC levels are based on the best available biological and socioeconomic information, including projected biomass trends, information on assumed distribution of stock biomass, and revised technical methods used to calculate stock biomass. In general, the development of ABCs and overfishing levels (OFLs) involves sophisticated statistical analyses of fish populations and is based on a successive series of six levels, or tiers, of reliable information available to fishery scientists. Tier 1 represents the highest level of data quality and tier 6 the lowest level of data quality available.

In December 2005, the Scientific and Statistical Committee (SSC), Advisory Panel (AP), and Council reviewed current biological information about the condition of the BSAI groundfish stocks. The Council's Plan Team complied and presented this information in the 2005 SAFE report for the BSAI groundfish fisheries, dated November 2005. The SAFE report contains a review of the latest scientific analyses and estimates of each species' biomass and other biological parameters, as well as summaries of the available information on the BSAI ecosystem and the economic condition of groundfish fisheries off Alaska. The SAFE report is available for public review (see ADDRESSES). From these data and analyses, the Plan Team estimates an OFL and ABC for each species or species category.

In December 2005, the SSC, AP, and Council reviewed the Plan Team's recommendations. Except for Bogoslof pollock and the “other species” category, the SSC, AP, and Council endorsed the Plan Team's ABC recommendations. For 2006 and 2007, the SSC recommended lower Bogoslof pollock OFLs and ABCs than the maximum permissible OFLs and ABCs recommended by the Plan Team. For Bogoslof pollock, the SSC recommended using a procedure that reduces the ABC proportionately to the ratio of current stock biomass to target stock biomass. For “other species,” the SSC recommended using tier 6 management for the sharks and octopus species resulting in lower ABCs than the Plan Team's recommended tier 5 management. The Plan Team also recommended separate OFLs and ABCs for the species in the “other species” category; however, the current FMP specifies management at the group level. Since 1999, the SSC has recommended a procedure that moves gradually to a higher ABC for “other species” over a 10-year period instead of a large increase in one year. The 2006 and 2007 ABC amounts reflect the 8th and 9th years of incremental increase in the ABC for “other species.” For all species, the AP endorsed the ABCs recommended by the SSC, and the Council adopted them.

The final TAC recommendations were based on the ABCs as adjusted for other biological and socioeconomic considerations, including maintaining the sum of the TACs within the required optimum yield (OY) range of 1.4 million to 2 million mt. The Council adopted the AP's 2006 and 2007 TAC recommendations. None of the Council's recommended TACs for 2006 or 2007 exceeds the final 2006 or 2007 ABC for any species category. NMFS finds that the recommended OFLs, ABCs, and TACs are consistent with the biological condition of groundfish stocks as described in the 2005 SAFE report that was approved by the Council.

Other Rules Affecting the 2006 and 2007 Harvest Specifications

The 2007 harvest specifications will be updated in early 2007, when new harvest specifications for 2007 and 2008 are implemented.

The Council is reviewing Amendment 85, which may revise the BSAI Pacific cod sector allocation and apportion the Pacific cod ABC or TAC by Bering Sea subarea and Aleutian Islands (AI) subarea separately instead of by the entire BSAI management area. The Council is also reviewing Amendment 84, which may modify current regulations for managing incidental catch of chinook and chum salmon. Another action the Council may consider is separating some species from the “other species” species category and establishing separate OFLs, ABCs, and TACs for those species.

Changes From the 2006 and 2007 Proposed Harvest Specifications in the BSAI

In October 2005, the Council's recommendations for the 2006 and 2007 proposed harvest specifications (70 FR 74723, December 16, 2005) were based largely on information contained in the 2004 SAFE report for the BSAI groundfish fisheries, dated November 2004. The Council recommended that OFLs and ABCs for stocks in tiers 1 through 3 be based on biomass projections as set forth in the 2004 SAFE report and estimates of groundfish harvests through the 2005 fishing year. For stocks in tiers 4 through 6, for which projections could not be made, the Council recommended that OFL and ABC levels be unchanged from 2005 until the 2005 SAFE report could be completed. The 2005 SAFE report (dated November 2005), which was not available when the Council made its recommendations in October 2005, contains the best and most recent scientific information on the condition of the groundfish stocks. In December 2005, the Council considered the 2005 SAFE report in making its recommendations for the 2006 and 2007 final harvest specifications. Based on the 2005 SAFE report, the sum of the 2006 and 2007 recommended final TACs for the BSAI (2,000,000 mt) is the same as the sum of the 2006 and 2007 proposed TACs. Those species for which the final 2006 TAC is lower than the proposed 2006 TAC are Bering Sea subarea pollock (decreased to 1,485,000 mt, from 1,487,756 mt), Pacific cod (decreased to 194,000 mt, from 195,000 mt), Greenland turbot (decreased to 2,740 mt, from 3,500 mt), rock sole (decreased to 41,500 mt, from 42,000 mt), flathead sole (decreased to 19,500 mt, from 20,000 mt), Alaska plaice (decreased to 8,000 mt, from 10,000 mt), northern rockfish (decreased to 4,500 mt, from 5,000 mt), shortraker rockfish (decreased to 580 mt, from 596 mt), and “other species” (decreased to 29,000 mt, from 29,200 mt). Those species for which the final 2006 TAC is higher than the proposed 2006 TAC are Bering Sea sablefish (increased to 2,820 mt, from 2,310 mt), AI sablefish (increased to 3,000 mt, from 2,480 mt), “other flatfish” (increased to 3,500 mt, from 3,000 mt), yellowfin sole (increased to 95,701 mt, from 90,000 mt), arrowtooth flounder (increased to 13,000 mt, from 12,000 mt), and rougheye rockfish (increased to 224 mt, from 223 mt). Those species for which the final 2007 TAC is lower than the proposed 2007 TAC are Pacific cod (decreased to 148,000 mt, from 172,200 mt), Bering Sea Greenland turbot (decreased to 2,630 mt, from 10,500 mt), Atka mackerel (decreased to 63,000 mt, from 90,800 mt), yellowfin sole (decreased to 107,641 mt, from 109,600 mt), rock sole (decreased to 44,000 mt, from 116,100 mt), arrowtooth flounder (decreased to 18,000 mt, from 39,100 mt), flathead sole (decrease to 22,000 mt, from 50,600 mt), “other flatfish” (decreased to 5,000 mt, from 21,400 mt), Alaska plaice (decreased to 15,000 mt, from 65,000 mt), Pacific ocean perch (decreased to 14,800 mt, from 15,100 mt), northern rockfish (decreased to 5,000 mt, from 8,200 mt), shortraker rockfish (decreased to 580 mt, from 596 mt), squid (decreased to 1,275 mt, from 1,970 mt), and “other species” (decreased to 27,000 mt, from 29,200). Those species for which the final 2007 TAC is higher than the proposed 2007 TAC are Bering Sea pollock (increased to 1,500,000 mt, from 1,223,200 mt), Bering Sea sablefish (increased to 2,700 mt, from 2,400 mt), AI sablefish (increased to 2,740 mt, from 2,600 mt), and rougheye rockfish (increased to 224 from 223 mt). As mentioned in the 2006 and 2007 proposed harvest specifications, NMFS is apportioning the amounts shown in Table 2 from the non-specified reserve to increase the ITAC of several target species.

The 2006 and 2007 final TAC recommendations for the BSAI are within the OY range established for the BSAI and do not exceed ABCs for any single species/complexes. Compared to the 2006 and 2007 proposed harvest specifications, the Council's 2005 final TAC recommendations increase fishing opportunities for fishermen and economic benefits to the nation for species for which the Council had sufficient information to raise TAC levels. These include BSAI sablefish, yellowfin sole, arrowtooth flounder, “other flatfish”, and rougheye rockfish. Conversely, the Council reduced TAC levels to provide greater protection for several species, these include Bering Sea subarea pollock, Pacific cod, rock sole, Greenland turbot, flathead sole, Alaska plaice, northern rockfish, shortraker rougheye, and “other species.” The changes recommended by the Council were based on the best scientific information available, consistent with National Standard 2 of the Magnuson-Stevens Act, and within a reasonable range of variation from the proposed TAC recommendations so that the affected public was fairly apprised and could have made meaningful comments.

Table 1 lists the 2006 and 2007 final OFL, ABC, TAC, ITAC and CDQ reserve amounts of the BSAI groundfish. The apportionment of TAC amounts among fisheries and seasons is discussed below.

Table 1.—2006 and 2007 Overfishing Level (OFL), Acceptable Biological Catch (ABC), Total Allowable Catch (TAC), Initial TAC (ITAC), and CDQ Reserve Allocation of Groundfish in the BSAI ¹
[Amounts are in metric tons]
Species | Area | 2006: OFL | 2006: ABC | 2006: TAC | 2006: ITAC ² | 2006: CDQ ³ | 2007: OFL | 2007: ABC | 2007: TAC | 2007: ITAC ² | 2007: CDQ ³
Pollock ⁴ | BS ² | 2,090,000 | 1,930,000 | 1,485,000 | 1,336,500 | 148,500 | 1,930,000 | 1,790,000 | 1,500,000 | 1,350,000 | 150,000
| AI ² | 39,100 | 29,400 | 19,000 | 17,100 | 1,900 | 39,100 | 29,400 | 19,000 | 17,100 | 1,900
| Bogoslof | 50,600 | 5,500 | 10 | 10 | n/a | 50,600 | 5,500 | 10 | 10 | n/a
Pacific cod | BSAI | 230,000 | 194,000 | 194,000 | 164,900 | 14,550 | 176,000 | 148,000 | 148,000 | 125,800 | 11,100
Sablefish ⁵ | BS | 3,680 | 3,060 | 2,820 | 2,327 | 388 | 3,260 | 2,700 | 2,700 | 1,148 | 101
| AI | 3,740 | 3,100 | 3,000 | 2,438 | 499 | 3,300 | 2,740 | 2,740 | 582 | 51
Atka mackerel | BSAI | 130,000 | 110,000 | 63,000 | 53,550 | 4,725 | 107,000 | 91,000 | 63,000 | 53,550 | 4,725
| EAI/BS | n/a | 21,780 | 7,500 | 6,375 | 563 | n/a | 18,020 | 7,500 | 6,375 | 563
| CAI | n/a | 46,860 | 40,000 | 34,000 | 3,000 | n/a | 38,760 | 38,000 | 32,300 | 2,850
| WAI | n/a | 41,360 | 15,500 | 13,175 | 1,163 | n/a | 34,220 | 17,500 | 14,875 | 1,313
Yellowfin sole | BSAI | 144,000 | 121,000 | 95,701 | 81,346 | 7,178 | 137,000 | 116,000 | 107,641 | 91,495 | 8,073
Rock sole | BSAI | 150,000 | 126,000 | 41,500 | 35,275 | 3,113 | 145,000 | 122,000 | 44,000 | 37,400 | 3,300
Greenland turbot | BSAI | 14,200 | 2,740 | 2,740 | 2,329 | 206 | 13,400 | 2,630 | 2,630 | 2,236 | 197
| BS | n/a | 1,890 | 1,890 | 1,607 | 142 | n/a | 1,815 | 1,815 | 1,543 | 136
| AI | n/a | 850 | 850 | 723 | 64 | n/a | 815 | 815 | 693 | 61
Arrowtooth flounder | BSAI | 166,000 | 136,000 | 13,000 | 11,050 | 975 | 174,000 | 142,000 | 18,000 | 15,300 | 1,350
Flathead sole | BSAI | 71,800 | 59,800 | 19,500 | 16,575 | 1,463 | 67,900 | 56,600 | 22,000 | 18,700 | 1,650
Other flatfish ⁶ | BSAI | 24,200 | 18,100 | 3,500 | 2,975 | 263 | 24,200 | 18,100 | 5,000 | 4,250 | 375
Alaska plaice | BSAI | 237,000 | 188,000 | 8,000 | 6,800 | 600 | 231,000 | 183,000 | 15,000 | 12,750 | 1,125
Pacific ocean perch | BSAI | 17,600 | 14,800 | 12,600 | 10,710 | 945 | 17,600 | 14,800 | 14,800 | 12,580 | 1,110
| BS | n/a | 2,960 | 1,400 | 1,190 | 105 | n/a | 2,960 | 2,960 | 2,516 | 222
| EAI | n/a | 3,256 | 3,080 | 2,618 | 231 | n/a | 3,256 | 3,256 | 2,768 | 244
| CAI | n/a | 3,212 | 3,035 | 2,580 | 228 | n/a | 3,212 | 3,212 | 2,730 | 241
| WAI | n/a | 5,372 | 5,085 | 4,322 | 381 | n/a | 5,375 | 5,372 | 4,566 | 403
Northern rockfish | BSAI | 10,100 | 8,530 | 4,500 | 3,825 | 338 | 9,890 | 8,320 | 5,000 | 4,250 | 375
Shortraker rockfish | BSAI | 774 | 580 | 580 | 493 | 44 | 774 | 580 | 580 | 493 | 44
Rougheye rockfish | BSAI | 299 | 224 | 224 | 190 | 17 | 299 | 224 | 224 | 190 | 17
Other rockfish ⁷ | BSAI | 1,870 | 1,400 | 1,050 | 893 | 79 | 1,870 | 1,400 | 1,400 | 1,190 | 105
| BS | n/a | 810 | 460 | 391 | 35 | n/a | 810 | 810 | 689 | 61
| AI | n/a | 590 | 590 | 502 | 44 | n/a | 590 | 590 | 502 | 44
Squid | BSAI | 2,620 | 1,970 | 1,275 | 1,084 | n/a | 2,620 | 1,970 | 1,275 | 1,084 | n/a
Other species ⁸ | BSAI | 89,404 | 58,882 | 29,000 | 24,650 | 2,175 | 89,404 | 62,950 | 27,000 | 22,950 | 2,025
Total |  | 3,476,987 | 3,013,086 | 2,000,000 | 1,775,020 | 187,958 | 3,224,217 | 2,799,914 | 2,000,000 | 1,773,058 | 187,623
¹ These amounts apply to the entire BSAI management area unless otherwise specified. With the exception of pollock, and for the purpose of these harvest specifications, the Bering Sea (BS) subarea includes the Bogoslof District.
² Except for pollock and the portion of the sablefish TAC allocated to hook-and-line and pot gear, 15 percent of each TAC is put into a reserve. The ITAC for each species is the remainder of the TAC after the subtraction of these reserves.
³ Except for pollock, squid and the hook-and-line or pot gear allocation of sablefish, one half of the amount of the TACs placed in reserve, or 7.5 percent of the TACs, is designated as a CDQ reserve for use by CDQ participants (see §§ 679.20(b)(1)(iii) and 679.31).
⁴ Pursuant to § 679.20(a)(5)(i)(A)(1), the annual Bering Sea pollock TAC after subtraction for the CDQ directed fishing allowance—10 percent and the ICA—3.35 percent, is further allocated by sector for a directed pollock fishery as follows: Inshore—50 percent; catcher/processor—40 percent; and motherships—10 percent. Pursuant to § 679.20(a)(5)(iii)(B)(2)(i) and (ii), the annual AI pollock TAC, after subtracting first for the CDQ directed fishing allowance—10 percent and second for the ICA—1,800 mt, is allocated to the Aleut Corporation for a directed pollock fishery.
⁵ Twenty percent of the sablefish TAC allocated to hook-and-line gear or pot gear and 7.5 percent of the sablefish TAC allocated to trawl gear is reserved for use by CDQ participants (see § 679.20(b)(1)(iii)).
⁶ “Other flatfish” includes all flatfish species, except for halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸ “Other species” includes sculpins, sharks, skates and octopus. Forage fish, as defined at § 679.2, are not included in the “other species” category.

Reserves and the Incidental Catch Allowance (ICA) for Pollock

Section 679.20(b)(1)(i) requires the placement of 15 percent of the TAC for each target species or species group, except for pollock and the hook-and-line and pot gear allocation of sablefish, in a non-specified reserve. Section 679.20(b)(1)(iii) further requires the allocation of one-half of each TAC amount that is placed in the non-specified reserve (7.5 percent), with the exception of squid, to the groundfish CDQ reserve, and the allocation of 20 percent of the hook-and-line and pot gear allocation of sablefish to the fixed gear sablefish CDQ reserve. Sections 679.20(a)(5)(i)(A) and 679.31(a) also require the allocation of 10 percent of the BSAI pollock TACs to the pollock CDQ directed fishing allowance. The entire Bogoslof District pollock TAC is allocated as an ICA (see § 679.20(a)(5)(ii)). With the exception of the hook-and-line and pot gear sablefish CDQ reserve, the regulations do not further apportion the CDQ reserves by gear. Section 679.21(e)(1)(i) requires withholding of 7.5 percent of each PSC limit, with the exception of herring, as a PSQ reserve for the CDQ fisheries. Sections 679.30 and 679.31 set forth regulations governing the management of the CDQ and PSQ reserves.

Pursuant to § 679.20(a)(5)(i)(A)(1), NMFS allocates a pollock ICA of 3.35 percent of the Bering Sea subarea pollock TAC after subtraction of the 10 percent CDQ reserve. This allowance is based on NMFS' examination of the pollock incidental catch, including the incidental catch by CDQ vessels, in target fisheries other than pollock from 1998 through 2005. During this 6-year period, the pollock incidental catch ranged from a low of 2 percent in 2003, to a high of 5 percent in 1999, with a 6-year average of 3.5 percent. Pursuant to § 679.20(a)(5)(iii)(B)(2)(i) and (ii), NMFS recommends setting a 1,800 mt ICA for AI subarea pollock after subtraction of the 10 percent CDQ directed fishing allowance.

The regulations do not designate the remainder of the non-specified reserve by species or species group. Any amount of the reserve may be apportioned to a target species or to the “other species” category during the year, providing that such apportionments do not result in overfishing (see § 679.20(b)(1)(ii)). The Regional Administrator has determined that the ITACs specified for the species listed in Table 2 need to be supplemented from the non-specified reserve because U.S. fishing vessels have demonstrated the capacity to catch the full TAC allocations. Therefore, in accordance with § 679.20(b)(3), NMFS is apportioning the amounts shown in Table 2 from the non-specified reserve to increase the ITAC to an amount that is equal to TAC minus the CDQ reserve.

Table 2.—2006 and 2007 Apportionment of Reserves to ITAC Categories
[Amounts are in metric tons]
Species—area or subarea | 2006 reserve amount | 2006 final ITAC | 2007 reserve amount | 2007 final ITAC
Atka mackerel—Eastern Aleutian District and Bering Sea subarea | 563 | 6,938 | 563 | 6,938
Atka mackerel—Central Aleutian District | 3,000 | 37,000 | 2,850 | 35,150
Atka mackerel—Western Aleutian District | 1,163 | 14,338 | 1,313 | 16,188
Pacific ocean perch—Eastern Aleutian District | 231 | 2,849 | 244 | 3,012
Pacific ocean perch—Central Aleutian District | 228 | 2,808 | 241 | 2,971
Pacific ocean perch—Western Aleutian District | 381 | 4,703 | 403 | 4,969
Pacific cod—BSAI | 14,550 | 179,450 | 11,100 | 136,900
Shortraker rockfish—BSAI | 44 | 537 | 44 | 537
Rougheye rockfish—BSAI | 17 | 207 | 17 | 207
Northern rockfish—BSAI | 338 | 4,163 | 375 | 4,625
Other rockfish—Bering Sea subarea | 35 | 426 | 61 | 750
Total | 20,550 | 253,419 | 17,211 | 212,247

Allocation of Pollock TAC Under the American Fisheries Act (AFA)

Section 679.20(a)(5)(i)(A) requires that the pollock TAC apportioned to the Bering Sea subarea, after subtraction of the 10 percent for the CDQ program and the 3.35 percent for the ICA, will be allocated as a directed fishing allowance (DFA) as follows: 50 percent to the inshore component, 40 percent to the catcher/processor component, and 10 percent to the mothership component. In the Bering Sea subarea, the A season (January 20-June 10) is allocated 40 percent of the DFA and the B season (June 10-November 1) is allocated 60 percent of the DFA. The AI directed pollock fishery allocation to the Aleut Corporation is the amount of pollock remaining in the AI subarea after subtracting 1,900 mt for the CDQ DFA (10 percent) and 1,800 mt for the ICA. In the AI subarea, 40 percent of the ABC is allocated to the A season and the remainder of the directed pollock fishery is allocated to the B season. Table 3 lists these 2006 and 2007 amounts.

Section 679.20(a)(5)(i)(A)(4) also includes several specific requirements regarding pollock and pollock allocations. First, 8.5 percent of the pollock allocated to the catcher/processor sector will be available for harvest by AFA catcher vessels with catcher/processor sector endorsements, unless the Regional Administrator receives a cooperative contract that provides for the distribution of harvest among AFA catcher/processors and AFA catcher vessels in a manner agreed to by all members. Second, AFA catcher/processors not listed in the AFA are limited to harvesting not more than 0.5 percent of the pollock allocated to the catcher/processor sector. Table 3 lists the 2006 and 2007 allocations of pollock TAC. Tables 10 through 17 list other provisions of the AFA, including inshore pollock cooperative allocations and listed catcher/processor and catcher vessel harvesting sideboard limits.

Table 3 also lists seasonal apportionments of pollock and harvest limits within the Steller Sea Lion Conservation Area (SCA). The harvest within the SCA, as defined at § 679.22(a)(7)(vii), is limited to 28 percent of the annual directed fishing allowance (DFA) until April 1. The remaining 12 percent of the 40 percent of the annual DFA allocated to the A season may be taken outside the SCA before April 1 or inside the SCA after April 1. If the 28 percent of the annual DFA is not taken inside the SCA before April 1, the remainder is available to be taken inside the SCA after April 1. The A season pollock SCA harvest limit will be apportioned to each sector in proportion to each sector's allocated percentage of the DFA. Table 3 lists by sector these 2006 and 2007 amounts.

Table 3.—2006 and 2007 Allocations of Pollock TACS to the Directed Pollock Fisheries and to the CDQ Directed Fishing Allowances (DFA)¹
[Amounts are in metric tons]
Area and sector | 2006 allocations | 2006 A season ¹: A season DFA | 2006 A season ¹: SCA harvest limit ² | 2006 B season ¹: B season DFA | 2007 allocations | 2007 A season ¹: A season DFA | 2007 A season ¹: SCA harvest limit ² | 2007 B season ¹: B season DFA
Bering Sea subarea | 1,485,000 | n/a | n/a | n/a | 1,500,000 | n/a | n/a | n/a
CDQ DFA | 148,500 | 59,400 | 41,580 | 89,100 | 150,000 | 60,000 | 42,000 | 90,000
ICA ¹ | 44,773 | n/a | n/a | n/a | 45,225 | n/a | n/a | n/a
AFA Inshore | 645,864 | 258,345 | 180,842 | 387,518 | 652,388 | 260,955 | 182,669 | 391,433
AFA Catcher/Processors ³ | 516,691 | 206,676 | 144,673 | 310,015 | 521,910 | 208,764 | 146,135 | 313,146
Catch by C/Ps | 472,772 | 189,109 | n/a | 283,663 | 477,548 | 191,019 | n/a | 286,529
Catch by CVs ³ | 43,919 | 17,567 | n/a | 26,351 | 44,362 | 17,745 | n/a | 26,617
Unlisted C/P Limit ⁴ | 2,583 | 1,033 | n/a | 1,550 | 2,610 | 1,044 | n/a | 1,566
AFA Motherships | 129,173 | 51,669 | 36,168 | 77,504 | 130,478 | 52,191 | 36,534 | 78,287
Excessive Harvesting Limit ⁵ | 226,052 | n/a | n/a | n/a | 228,336 | n/a | n/a | n/a
Excessive Processing Limit ⁶ | 387,518 | n/a | n/a | n/a | 391,433 | n/a | n/a | n/a
Total Bering Sea DFA | 1,440,228 | 576,090 | 403,263 | 864,137 | 1,454,776 | 581,910 | 407,338 | 872,866
Aleutian Islands subarea ¹ | 19,000 | n/a | n/a | n/a | 19,000 | n/a | n/a | n/a
CDQ DFA | 1,900 | 760 | n/a | 1,140 | 1,900 | 760 | n/a | 1,140
ICA | 1,800 | 1,200 | n/a | 600 | 1,800 | 1,200 | n/a | 600
Aleut Corporation | 15,300 | 9,800 | n/a | 5,500 | 15,300 | 9,800 | n/a | 5,500
Bogoslof District ICA ⁷ | 10 | n/a | n/a | n/a | 10 | n/a | n/a | n/a
¹ Pursuant to § 679.20(a)(5)(i)(A), the Bering Sea subarea pollock, after subtraction for the CDQ DFA—10 percent and the ICA—3.35 percent, is allocated as a DFA as follows: Inshore component—50 percent, catcher/processor component—40 percent, and mothership component—10 percent. In the Bering Sea subarea, the A season, January 20—June 10, is allocated 40 percent of the DFA and the B season, June 10—November 1, is allocated 60 percent of the DFA. Pursuant to § 679.20(a)(5)(iii)(B)(2)(i) and (ii), the annual AI pollock TAC, after subtracting first for the CDQ directed fishing allowance—10 percent and second the ICA—1,800 mt, is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6) NMFS establishes an excessive harvesting share limit equal to 17.5 percent of the sum of the pollock DFAs.
⁶ Pursuant to § 679.20(a)(5)(i)(A)(7) NMFS establishes an excessive processing share limit equal to 30.0 percent of the sum of the pollock DFAs.
⁷ The Bogoslof District is closed by the final harvest specifications to directed fishing for pollock. The amounts specified are for ICA only, and are not apportioned by season or sector.

Allocation of the Atka Mackerel ITAC

Pursuant to § 679.20(a)(8)(i), up to 2 percent of the Eastern Aleutian District and the Bering Sea subarea Atka mackerel ITAC may be allocated to jig gear. The amount of this allocation is determined annually by the Council based on several criteria, including the anticipated harvest capacity of the jig gear fleet. The Council recommended, and NMFS approved, a 1 percent allocation of the Atka mackerel ITAC in the Eastern Aleutian District and the Bering Sea subarea to the jig gear in 2006 and 2007. Based on the 2006 and 2007 ITACs and reserve apportionments that together total 6,938 mt, the jig gear allocation is 69 mt.

Section § 679.20(a)(8)(ii)(A) apportions the Atka mackerel ITAC into two equal seasonal allowances. After subtraction of the jig gear allocation, the first seasonal allowance is made available for directed fishing from January 1 (January 20 for trawl gear) to April 15 (A season), and the second seasonal allowance is made available from September 1 to November 1 (B season) (see Table 4).

Pursuant to § 679.20(a)(8)(ii)(C)(1), the Regional Administrator will establish a harvest limit area (HLA) limit of no more than 60 percent of the seasonal TAC for the Western and Central Aleutian Districts. A lottery system is used for the HLA Atka mackerel directed fisheries to reduce the amount of daily catch in the HLA by about half and to disperse the fishery over two districts (see § 679.20(a)(8)(iii)).

Table 4.-2006 and 2007 Seasonal and Spatial Allowances, Gear Shares, and CDQ Reserve of the BSAI ATKA Mackerel TAC ¹
[Amounts are in metric tons]
Subarea and component | 2006 TAC | 2006 CDQ reserve | 2006 CDQ reserve HLA limit ⁴ | 2006 ITAC | 2006 seasonal allowances ²: A season ³: Total | 2006 seasonal allowances ²: A season ³: HLA limit ⁴ | 2006 seasonal allowances ²: B season ³: Total | 2006 seasonal allowances ²: B season ³: HLA limit ⁴
Western AI District | 15,500 | 1,163 | 698 | 14,338 | 7,169 | 4,301 | 7,169 | 4,301
Central AI District | 40,000 | 3,000 | 1,800 | 37,000 | 18,500 | 11,100 | 18,500 | 11,100
EAI/BS subarea ⁵ | 7,500 | 563 | n/a | 6,938 | n/a | n/a | n/a | n/a
Jig (1%) ⁶ | n/a | n/a | n/a | 69 | n/a | n/a | n/a | n/a
Other gear (99%) | n/a | n/a | n/a | 6,868 | 3,434 | n/a | 3,434 | n/a
Total | 63,000 | n/a | n/a | n/a | 29,103 | n/a | 29,103 | n/a

Subarea and component | 2007 TAC | 2007 CDQ reserve | 2007 CDQ reserve HLA limit ⁴ | 2007 ITAC | 2007 Seasonal allowances ²: A season ³ | 2007 Seasonal allowances ²: B season ³: Total | 2007 Seasonal allowances ²: B season ³: HLA limit ⁴ | 2007 Seasonal allowances ²: B season ³: Total | 2007 Seasonal allowances ²: B season ³: HLA limit ⁴
Western AI District | 17,500 | 1,313 | 788 | 16,188 | 8,094 | 4,856 | 8,094 | 4,856
Central AI District | 38,000 | 2,850 | 1,710 | 35,150 | 17,575 | 10,545 | 17,575 | 10,545
EAI/BS subarea ⁵ | 7,500 | 563 | n/a | 6,938 | n/a | n/a | n/a | n/a
Jig (1%) ⁶ | n/a | n/a | n/a | 69 | n/a | n/a | n/a | n/a
Other gear (99%) | n/a | n/a | n/a | 6,868 | 3,434 | n/a | 3,434 | n/a
Total | 63,000 | n/a | n/a | n/a | 29,103 | n/a | 29,103 | n/a
¹ Regulations at §§ 679.20(a)(8)(ii) and 679.22(a) establish temporal and spatial limitations for the Atka mackerel fishery.
² The seasonal allowances of Atka mackerel are 50 percent in the A season and 50 percent in the B season.
³ The A season is January 1 (January 20 for trawl gear) to April 15 and the B season is September 1 to November 1.
⁴ Harvest Limit Area (HLA) limit refers to the amount of each seasonal allowance that is available for fishing inside the HLA (see § 679.2). In 2006 and 2007, 60 percent of each seasonal allowance is available for fishing inside the HLA in the Western and Central Aleutian Districts.
⁵ Eastern Aleutian District and the Bering Sea subarea.
⁶ Regulations at § 679.20 (a)(8)(i) require that up to 2 percent of the Eastern Aleutian District and the Bering Sea subarea ITAC be allocated to jig gear. The amount of this allocation is 1 percent. The jig gear allocation is not apportioned by season.

Allocation of the Pacific Cod ITAC

Pursuant to § 679.20(a)(7)(i)(A), 2 percent of the Pacific cod ITAC is allocated to vessels using jig gear, 51 percent to vessels using hook-and-line or pot gear, and 47 percent to vessels using trawl gear. Section 679.20(a)(7)(i)(B) further allocates the portion of the Pacific cod ITAC allocated to trawl gear as 50 percent to catcher vessels and 50 percent to catcher/processors. Section 679.20(a)(7)(i)(C)(1) sets aside a portion of the Pacific cod ITAC allocated to hook-and-line or pot gear as an ICA of Pacific cod in directed fisheries for groundfish using these gear types. Based on anticipated incidental catch in these fisheries, the Regional Administrator specifies an ICA of 500 mt. The remainder of Pacific cod ITAC is further allocated to vessels using hook-and-line or pot gear as the following DFAs: 80 percent to hook-and-line catcher/processors, 0.3 percent to hook-and-line catcher vessels, 3.3 percent to pot catcher/processors, 15 percent to pot catcher vessels, and 1.4 percent to catcher vessels under 60 feet (18.3 m) length overall (LOA) using hook-and-line or pot gear.

Due to concerns about the potential impact of the Pacific cod fishery on Steller sea lions and their critical habitat, the apportionment of the ITAC disperses the Pacific cod fisheries into two seasonal allowances (see §§ 679.20(a)(7)(iii)(A) and 679.23(e)(5)). For pot and most hook-and-line gear, the first seasonal allowance of 60 percent of the ITAC is made available for directed fishing from January 1 to June 10, and the second seasonal allowance of 40 percent of the ITAC is made available from June 10 (September 1 for pot gear) to December 31. No seasonal harvest constraints are imposed for the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season and 20 percent in the third season. The trawl catcher/processor allocation is allocated 50 percent in the first season, 30 percent in the second season, and 20 percent in the third season. For jig gear, the first season and third seasons are each allocated 40 percent of the ITAC and the second season is allocated 20 percent of the ITAC. Table 5 lists the 2006 and 2007 allocations and seasonal apportionments of the Pacific cod ITAC. In accordance with § 679.20(a)(7)(ii)(D) and (iii)(B), any unused portion of a seasonal Pacific cod allowance will become available at the beginning of the next seasonal allowance.

Table 5.—2006 and 2007 Gear Shares and Seasonal Allowances of the BSAI Pacific Cod ITAC
[Amounts are in metric tons]
Gear sector | Percent | 2006 share of gear sector total | 2006 subtotal percentages for gear sectors | 2006 share of gear sector total | 2006 seasonal appointment ¹: Date | 2006 seasonal appointment ¹: Amount | 2007 share of gear sector total | 2007 subtotal percentage for gear sectors | 2007 share of gear sector total | 2007 seasonal appointment ¹: Date | 2007 seasonal appointment ¹: Amount
Total hook-and-line/pot gear | 51 | 91,520 | n/a | n/a | n/a | n/a | 69,819 | n/a | n/a | n/a | n/a
Hook-and-line/pot ICA | n/a | n/a | n/a | 500 | n/a | n/a | n/a | n/a | 500 | n/a | n/a
Hook-and-line/pot sub-total | n/a | 91,020 | n/a | n/a | n/a | n/a | 69,319 | n/a | n/a | n/a | n/a
Hook-and-line C/P | n/a | n/a | 80 | 72,816 | Jan 1-Jun 10 | 43,690 | n/a | 80 | 55,455 | Jan 1-Jun 10 | 33,273
|  |  |  |  | Jun 10-Dec 31 | 29,126 |  |  |  | Jun 10-Dec 31 | 22,182
Hook-and-line CV | n/a | n/a | 0.3 | 273 | Jan 1-Jun 10 | 164 | n/a | 0.3 | 208 | Jan 1-Jun 10 | 125
|  |  |  |  | Jun 10-Dec 31 | 109 |  |  |  | Jun 10-Dec 31 | 83
Pot C/P | n/a | n/a | 3.3 | 3,004 | Jan 1-Jun 10 | 1,803 | n/a | 3.3 | 2,288 | Jan 1-Jun 10 | 1,373
|  |  |  |  | Sept 1-Dec 31 | 1,201 |  |  |  | Sept 1-Dec 31 | 915
Pot CV | n/a | n/a | 15 | 13,653 | Jan 1-Jun 10 | 8,192 | n/a | 15 | 10,398 | Jan 1-Jun 10 | 6,239
|  |  |  |  | Sept 1-Dec 31 | 5,461 |  |  |  | Sept 1-Dec 31 | 4,159
CV < 60 feet LOA using Hook-and-line or Pot gear | n/a | n/a | 1.4 | 1,274 | n/a | n/a | n/a | 1.4 | 970 | n/a | n/a
Total Trawl Gear | 47 | 84,342 | n/a | n/a | n/a | n/a | 64,343 | n/a | n/a | n/a | n/a
Trawl CV |  |  | 50 | 42,171 | Jan 20-Apr 1 | 29,520 |  | 50 | 32,171 | Jan 20-Apr 1 | 22,520
|  |  |  | n/a | Apr 1-Jun 10 | 4,217 |  |  | n/a | Apr 1-Jun 10 | 3,217
|  |  |  | n/a | Jun 10-Nov 1 | 8,434 |  |  | n/a | Jun 10-Nov 1 | 6,434
Trawl CP |  |  | 50 | 42,171 | Jan 20-Apr 1 | 21,086 |  | 50 | 32,171 | Jan 20-Apr 1 | 16,086
|  |  |  | n/a | Apr 1-Jun 10 | 12,651 |  |  | n/a | Apr 1-Jun 10 | 9,651
|  |  |  | n/a | Jun 10-Nov 1 | 8,434 |  |  | n/a | Jun 10-Nov 1 | 6,434
Jig | 2 | 3,589 | n/a | n/a | Jan 1-Apr 30 | 1,436 | 2,738 | n/a | n/a | Jan 1-Apr 30 | 1,095
|  |  | n/a | n/a | Apr 30-Aug 31 | 718 |  | n/a | n/a | Apr 30-Aug 31 | 548
|  |  | n/a | n/a | Aug 31-Dec 31 | 1,435 |  | n/a | n/a | Aug 31-Dec 31 | 1,095
Total | 100 | 179,450 | n/a | n/a | n/a | n/a | 136,900 | n/a | n/a | n/a | n/a
¹ For most non-trawl gear the first season is allocated 60 percent of the ITAC and the second season is allocated 40 percent of the ITAC. For jig gear, the first season and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Sablefish Gear Allocation

Section 679.20(a)(4)(iii) and (iv) requires the allocation of sablefish TACs for the Bering Sea and AI subareas between trawl and hook-and-line or pot gear. Gear allocations of the TACs for the Bering Sea subarea are 50 percent for trawl gear and 50 percent for hook-and-line or pot gear and for the AI subarea are 25 percent for trawl gear and 75 percent for hook-and-line or pot gear. Section 679.20(b)(1)(iii)(B) requires apportionment of 20 percent of the hook-and-line and pot gear allocation of sablefish to the CDQ reserve. Additionally, § 679.20(b)(1)(iii)(A) requires apportionment of 7.5 percent of the trawl gear allocation of sablefish (one half of the reserve) to the CDQ reserve. Pursuant to § 679.20(c)(1)(iv), the harvest specifications for the hook-and-line gear and pot gear sablefish IFQ fisheries will be limited to the 2006 fishing year to ensure those fisheries are conducted concurrent with the halibut IFQ fishery. Having the sablefish IFQ fisheries concurrent with the halibut IFQ fishery will reduce the potential for discards of halibut and sablefish in those fisheries. The sablefish IFQ fisheries will remain closed at the beginning of each fishing year until the final specifications for the sablefish IFQ fisheries are in effect. The trawl sablefish fishery will be managed using specifications for up to a 2-year period concurrent with the remaining BSAI species. Table 6 lists the 2006 and 2007 gear allocations of the sablefish TAC and CDQ reserve amounts.

Table 6.—2006 and 2007 Gear Shares and CDQ Reserve of BSAI Sablefish TACS
[Amounts are in metric tons]
Subarea and gear | Percent of TAC | 2006 share of TAC | 2006 ITAC ¹ | 2006 CDQ reserve | 2007 share of TAC | 2007 ITAC | 2007 CDQ reserve
Bering Sea:
Trawl ² | 50 | 1,410 | 1,199 | 106 | 1,350 | 1,148 | 101
Hook-and-line/pot gear ³ | 50 | 1,410 | 1,128 | 282 | n/a | n/a | n/a
Total | 100 | 2,820 | 2,327 | 388 | 1,350 | 1,148 | 101
Aleutian Islands:
Trawl ² | 25 | 750 | 638 | 56 | 685 | 582 | 51
Hook-and-line/pot gear ³ | 75 | 2,250 | 1,800 | 450 | n/a | n/a | n/a
Total | 100 | 3,000 | 2,438 | 506 | 685 | 582 | 51
¹ Except for the sablefish hook-and-line or pot gear allocation, 15 percent of TAC is apportioned to the reserve. The ITAC is the remainder of the TAC after the subtraction of these reserves.
² For the portion of the sablefish TAC allocated to vessels using trawl gear, one half of the reserve (7.5 percent of the specified TAC) is reserved for the CDQ program.
³ For the portion of the sablefish TAC allocated to vessels using hook-and-line or pot gear, 20 percent of the allocated TAC is reserved for use by CDQ participants. The Council recommended that specifications for the hook-and-line gear sablefish IFQ fisheries be limited to 1 year.

Allocation of PSC Limits for Halibut, Salmon, Crab, and Herring

Section 679.21(e) provides the halibut PSC limits. The BSAI halibut mortality limits are 3,675 mt for trawl fisheries and 900 mt for the non-trawl fisheries. Section 679.21(e)(1)(vii) specifies 29,000 fish as the 2006 and 2007 chinook salmon PSC limit for the Bering Sea subarea pollock fishery. Section 679.21(e)(1)(i) allocates 7.5 percent, or 2,175 chinook salmon, as the PSQ for the CDQ program and allocates the remaining 26,825 chinook salmon to the non-CDQ fisheries. Section 679.21(e)(1)(ix) specifies 700 fish as the 2006 and 2007 PSC limit for the AI subarea pollock fishery. Section 679.21(e)(l)(i) allocates 7.5 percent, or 53 chinook salmon, as an AI PSQ for the CDQ program and allocates the remaining 647 chinook salmon to the non-CDQ fisheries. Section 679.21(e)(1)(viii) specifies 42,000 fish as the 2006 and 2007 non-chinook salmon PSC limit. Section 679.21(e)(1)(i) allocates 7.5 percent, or 3,150 non-chinook salmon, as the PSQ for the CDQ program and allocates the remaining 38,850 non-chinook salmon to the non-CDQ fisheries. PSC limits for crab and herring are specified annually based on abundance and spawning biomass.

The red king crab mature female abundance is estimated from the 2005 survey data as 42.6 million king crab and the effective spawning biomass is estimated as 68 million pounds (30,845 mt). Based on the criteria set out at § 679.21(e)(1)(ii), the 2006 and 2007 PSC limit of red king crab in Zone 1 for trawl gear is 197,000 animals. This limit results from the mature female abundance being above 8.4 million king crab and the effective spawning biomass estimate being greater than 55 million pounds (24,948 mt).

Section 679.21(e)(3)(ii)(B) establishes criteria under which NMFS must specify an annual red king crab bycatch limit for the Red King Crab Savings Subarea (RKCSS). The regulations limit the RKCSS to up to 35 percent of the trawl bycatch allowance specified for the rock sole/flathead sole/“other flatfish” fishery category based on the need to optimize the groundfish harvest relative to red king crab bycatch. The Council recommended, and NMFS approves, a red king crab bycatch limit equal to 35 percent of the trawl bycatch allowance specified for the rock sole/flathead sole/“other flatfish” fishery category within the RKCSS.

Based on 2005 survey data, Tanner crab Chionoecetes bairdi abundance is estimated as 763 million animals. Given the criteria set out at § 679.21(e)(1)(iii), the 2006 and 2007 C. bairdi crab PSC limit for trawl gear is 980,000 animals in Zone 1 and 2,970,000 animals in Zone 2. These limits result from the C. bairdi crab abundance estimate of over 400 million animals.

Pursuant to § 679.21(e)(1)(iv), the PSC limit for snow crab C. opilio is based on total abundance as indicated by the NMFS annual bottom trawl survey. The C. opilio crab PSC limit is set at 0.1133 percent of the Bering Sea abundance index. Based on the 2005 survey estimate of 5,217,718,000 animals, the calculated limit is 5,911,674 animals. Pursuant to § 679.21(e)(1)(iv)(B), the 2006 and 2007 C. opilio crab PSC limit is 5,911,674 animals minus 150,000 animals, which results in a limit of 5,761,674 animals.

Pursuant to § 679.21(e)(1)(vi), the PSC limit of Pacific herring caught while conducting any trawl operation for BSAI groundfish is 1 percent of the annual eastern Bering Sea herring biomass. The best estimate of 2006 and 2007 herring biomass is 177,000 mt. This amount was derived using 2005 survey data and an age-structured biomass projection model developed by the Alaska Department of Fish and Game. Therefore, the 2006 and 2007 herring PSC limit is 1,770 mt.

Pursuant to § 679.21(e)(1)(i), 7.5 percent of each PSC limit specified for halibut and crab is allocated as a PSQ reserve for use by the groundfish CDQ program. Section § 679.21(e)(3) requires the apportionment of each trawl PSC limit into PSC bycatch allowances for seven specified fishery categories. Section 679.21(e)(4)(ii) authorizes the apportionment of the non-trawl halibut PSC limit into PSC bycatch allowances among five fishery categories. Table 7 lists the fishery bycatch allowances for the trawl and non-trawl fisheries.

Section 679.21(e)(4)(ii) authorizes the exemption of specified non-trawl fisheries from the halibut PSC limit. As in past years, NMFS, after consultation with the Council, is exempting pot gear, jig gear, and the sablefish IFQ hook-and-line gear fishery categories from halibut bycatch restrictions because: (1) The pot gear fisheries experience low halibut bycatch mortality, (2) halibut mortality for the jig gear fleet cannot be estimated because these vessels do not carry observers, and (3) the sablefish and halibut Individual Fishing Quota (IFQ) program (subpart D of 50 CFR part 679) requires legal-sized halibut to be retained by vessels using hook-and-line gear if a halibut IFQ permit holder or a hired master is aboard and is holding unused halibut IFQ. In 2005, total BSAI groundfish catch for the pot gear fishery was approximately 18,342 mt, with an associated halibut bycatch mortality of about 42 mt. The 2005 jig gear fishery harvested about 124 mt of groundfish. Most vessels in the jig gear fleet are less than 60 ft (18.3 m) LOA and thus are exempt from observer coverage requirements. As a result, observer data are not available on halibut bycatch in the jig gear fishery. However, a negligible amount of halibut bycatch mortality is assumed because of the selective nature of this gear type and the likelihood that halibut caught with jig gear have a high survival rate when released.

Section 679.21(e)(5) authorizes NMFS, after consultation with the Council, to establish seasonal apportionments of PSC amounts in order to maximize the ability of the fleet to harvest the available groundfish TAC and to minimize bycatch. The factors to be considered are: (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended and NMFS approves the seasonal PSC apportionments in Table 7 to maximize harvest among gear types, fisheries, and seasons while minimizing bycatch of PSC based on the above criteria.

Table 7.—2006 and 2007 Prohibited Species Bycatch Allowances for the BSAI Trawl and Non-Trawl Fisheries
Trawl fisheries | Prohibited species and zone: Halibut mortality (mt) BSAI | Prohibited species and zone: Herring (mt) BSAI | Prohibited species and zone: Red King Crab (animals) zone 1 ¹ | Prohibited species and zone: C. opilio (animals) COBLZ ¹ | Prohibited species and zone: C. bairdi (animals): Zone 1 ¹ | Prohibited species and zone: C. bairdi (animals): Zone 2 ¹
Yellowfin sole | 886 | 152 | 33,843 | 4,103,752 | 340,844 | 1,788,459
January 20-April 1 | 262 | n/a | n/a | n/a | n/a | n/a
April 1-May 21 | 195 | n/a | n/a | n/a | n/a | n/a
May 21-July 1 | 49 | n/a | n/a | n/a | n/a | n/a
July 1-December 31 | 380 | n/a | n/a | n/a | n/a | n/a
Rock sole/other flat/flathead sole ² | 779 | 27 | 121,413 | 810,091 | 365,320 | 596,154
January 20-April 1 | 448 | n/a | n/a | n/a | n/a | n/a
April 1-July 1 | 164 | n/a | n/a | n/a | n/a | n/a
July 1-December 31 | 167 | n/a | n/a | n/a | n/a | n/a
Turbot/arrowtooth/sablefish ³ | n/a | 12 | n/a | 62,356 | n/a | n/a
Rockfish | n/a | n/a | n/a | n/a | n/a | n/a
July 1-December 31 | 69 | 10 | n/a | 62,356 | n/a | 10,988
Pacific cod | 1,434 | 27 | 26,563 | 184,402 | 183,112 | 324,176
Midwater trawl pollock | n/a | 1,350 | n/a | n/a | n/a | n/a
Pollock/Atka mackerel/other ⁴ | 232 | 192 | 406 | 106,591 | 17,224 | 27,473
Red King Crab Savings Subarea ⁶ | n/a | n/a | n/a | n/a | n/a | n/a
(non-pelagic trawl) | n/a | n/a | 42,495 | n/a | n/a | n/a
Total trawl PSC | 3,400 | 1,770 | 182,225 | 5,329,548 | 906,500 | 2,747,250
Non-trawl fisheries
Pacific cod—Total | 775 |  |  |  |  |
January 1-June 10 | 320 |  |  |  |  |
June 10-August 15 | 0 |  |  |  |  |
August 15-December 31 | 455 |  |  |  |  |
Other non-trawl—Total | 58 |  |  |  |  |
May 1-December 31 | 58 |  |  |  |  |
Groundfish pot and jig | exempt |  |  |  |  |
Sablefish hook-and-line | exempt |  |  |  |  |
Total non-trawl PSC | 833 |  |  |  |  |
PSQ reserve ⁵ | 342 | n/a | 14,775 | 432,126 | 73,500 | 222,750
PSC grand total | 4,575 | 2,012 | 197,000 | 5,761,674 | 980,000 | 2,970,000
¹ Refer to § 679.2 for definitions of areas.
² “Other flatfish” for PSC monitoring includes all flatfish species, except for halibut (a prohibited species), Greenland turbot, rock sole, yellowfin sole and arrowtooth flounder.
³ Greenland turbot, arrowtooth flounder, and sablefish fishery category.
⁴ Pollock other than pelagic trawl pollock, Atka mackerel, and “other species” fishery category.
⁵ With the exception of herring, 7.5 percent of each PSC limit is allocated to the CDQ program as PSQ reserve. The PSQ reserve is not allocated by fishery, gear or season.
⁶ In December 2005, the Council recommended that red king crab bycatch for trawl fisheries within the RKCSS be limited to 35 percent of the total allocation to the rock sole/flathead sole/“other flatfish” fishery category (see § 679.21(e)(3)(ii)(B)).

Halibut Discard Mortality Rates

To monitor halibut bycatch mortality allowances and apportionments, the Regional Administrator will use observed halibut bycatch rates, assumed discard mortality rates (DMR), and estimates of groundfish catch to project when a fishery's halibut bycatch mortality allowance or seasonal apportionment is reached. The DMRs are based on the best information available, including information contained in the annual SAFE report (see ADDRESSES).

The Council recommended and NMFS concurs that the recommended halibut DMRs developed by the staff of the International Pacific Halibut Commission (IPHC) for the 2006 and 2007 BSAI groundfish fisheries be used to monitor halibut bycatch allowances established for the 2006 and 2007 groundfish fisheries (see Table 8). The IPHC developed these DMRs using the 10-year mean DMRs for the BSAI non-CDQ groundfish fisheries. Plots of annual DMRs against the 10-year mean indicated little change since 1990 for most fisheries. DMRs were more variable for the smaller fisheries that typically take minor amounts of halibut bycatch. The IPHC will analyze observer data annually and recommend changes to the DMR where a fishery DMR shows large variation from the mean. The IPHC has been calculating the DMRs for the CDQ fisheries since 1998, and a 10-year mean is not available. The Council recommended and NMFS concurs with the DMRs recommended by the IPHC for 2006 and 2007 CDQ fisheries. The justification for the DMRs is discussed in Appendix A of the SAFE report dated November 2004.

Table 8.—2006 and 2007 Assumed Pacific Halibut Discard Mortality Rates for the BSAI Fisheries
Fishery | Preseason assumed mortality (percent)
Hook-and-line gear fisheries:
Greenland turbot | 15
Other species | 11
Pacific cod | 11
Rockfish | 16
Trawl gear fisheries:
Atka mackerel | 78
Flathead sole | 67
Greenland turbot | 72
Non-pelagic pollock | 76
Pelagic pollock | 85
Other flatfish | 71
Other species | 67
Pacific cod | 68
Rockfish | 74
Rock sole | 77
Sablefish | 49
Yellowfin sole | 78
Pot gear fisheries:
Other species | 8
Pacific cod | 8
CDQ trawl fisheries:
Atka mackerel | 86
Flathead sole | 67
Non-pelagic pollock | 85
Pelagic pollock | 89
Rockfish | 74
Yellowfin sole | 85
CDQ hook-and-line fisheries:
Greenland turbot | 15
Pacific cod | 10
CDQ pot fisheries:
Pacific cod | 8
Sablefish | 30

Directed Fishing Closures

In accordance with § 679.20(d)(1)(i), the Regional Administrator may establish a directed fishing allowance for a species or species group, if the Regional Administrator determines that any allocation or apportionment of a target species or “other species” category has been or will be reached. If the Regional Administrator establishes a directed fishing allowance, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab or C. opilio crab for a specified area has been reached, the Regional Administrator will prohibit directed fishing for each species in that category in the specified area.

The Regional Administrator has determined that the remaining allocation amounts in Table 9 will be necessary as incidental catch to support other anticipated groundfish fisheries for the 2006 and 2007 fishing year.

Table 9.—2006 and 2007 Directed Fishing Closures ¹
[Amounts are in metric tons]
Area | Species | 2006 incidental catch allowance | 2007 incidental catch allowance
Bogoslof District | Pollock | 10 | 10
Aleutian Islands subarea | ICA Pollock | 1,800 | 1,800
| “Other rockfish” | 502 | 502
Bering Sea subarea | Pacific ocean perch | 1,190 | 2,516
| “Other rockfish” | 426 | 750
Bering Sea and Aleutian Islands | Northern rockfish | 4,163 | 4,625
| Shortraker rockfish | 537 | 537
| Rougheye rockfish | 207 | 207
| “Other species” | 24,650 | 22,950
| CDQ Northern rockfish | 338 | 375
| CDQ Shortraker rockfish | 44 | 44
| CDQ Rougheye rockfish | 17 | 17
| CDQ “Other species” | 2,175 | 2,025
¹ Maximum retainable amounts may be found in Table 11 to 50 CFR part 679.

Consequently, in accordance with § 679.20(d)(1)(i), the Regional Administrator establishes the directed fishing allowances for the above species or species groups as zero. Therefore, in accordance with § 679.20(d)(1)(iii), NMFS is prohibiting directed fishing for these species in the specified areas effective at 1200 hrs, A.l.t., March 3, 2006 through 2400 hrs, A.l.t., December 31, 2007.

In addition, the BSAI Zone 1 annual red king crab allowance specified for the trawl rockfish fishery (see § 679.21(e)(3)(iv)(D)) is 0 mt and the BSAI first seasonal halibut bycatch allowance specified for the trawl rockfish fishery is 0 mt. Also, the BSAI annual halibut bycatch allowance specified for the trawl Greenland turbot/arrowtooth flounder/sablefish fishery categories is 0 mt (see § 679.21(e)(3)(iv)(C)). Therefore, in accordance with § 679.21(e)(7)(ii) and (v), NMFS is prohibiting directed fishing for rockfish by vessels using trawl gear in Zone 1 of the BSAI and directed fishing for Greenland turbot/arrowtooth flounder/sablefish by vessels using trawl gear in the BSAI effective at 1200 hrs, A.l.t., March 3, 2006 through 2400 hrs, A.l.t., December 31, 2007. NMFS also is prohibiting directed fishing for rockfish outside Zone 1 in the BSAI through 1200 hrs, A.l.t., July 1, 2006 for 2006 and July 1, 2007 for 2007.

Under authority of the 2005 and 2006 final harvest specifications (70 FR 8979, February 24, 2005), NMFS prohibited directed fishing for Atka mackerel in the Eastern Aleutian District and the Bering Sea subarea of the BSAI effective 1200 hrs, A.l.t., January 20, 2006, through 1200 hrs, A.l.t., September 1, 2006 (71 FR 4528, January 27, 2006). NMFS opened the first directed fisheries in the HLA in area 542 and area 543 effective 1200 hrs, A.l.t., January 22, 2006. The first HLA fishery in area 542 and area 543 remained open through 1200 hrs, A.l.t., February 5, 2006. The second directed fisheries in the HLA in area 542 and area 543 opened effective 1200 hrs, A.l.t., February 7, 2006. The second HLA fishery in area 542 and 543 remained open through 1200 hrs, A.l.t., February 21, 2006. NMFS prohibited directed fishing for Pacific cod by catcher vessels 60 feet (18.3 meters) length overall and longer using pot gear in the BSAI, effective 12 noon, A.l.t., February 3, 2006 (71 FR 6230, February 7, 2006). NMFS prohibited directed fishing for non-CDQ pollock with trawl gear in the Chinook Salmon Savings Areas of the BSAI effective 1200 hrs, A.l.t., February 15, 2006, through 1200 hrs, A.l.t., April 15, 2006, and from 1200 hrs, A.l.t, September 1, 2006, through 2400 hrs, A.l.t., December 31, 2006 (71 FR 8808, February 21, 2006). NMFS prohibited directed fishing for Atka Mackerel in the central Aleutian District of the BSAI, effective 1200 hrs, A.l.t., February 18, 2006, through 1200 hrs, A.l.t., September 1, 2006 (71 FR 9479, February 24, 2006). NMFS prohibited directed fishing for Pacific cod by catcher/processor vessels using hook-and-line gear in the BSAI, effective 1200 hrs, A.l.t.,February 18, 2006, through 1200 hrs, A.l.t., June 10, 2006 (71 FR 9478, February 24, 2006). NMFS prohibited directed fishing for Pacific cod by catcher/processor vessels using hook-and-line gear in the BSAI, effective 1200 hrs, A.l.t., February 18, 2006, through 1200 hrs, A.l.t., June 10, 2006 (71 FR 9478, February 24, 2006). NMFS closes directed fishing for rock sole, flathead sole, and “other flatfish” by vessels using trawl gear in the BSAI effective 1200 hrs, A.l.t., February 21, 2006, through 1200 hrs, A.l.t., April 1, 2006 (71 FR 9478, February 24, 2006). NMFS prohibited fishing for Pacific cod by catcher vessels less than 60 feet (18.3 meters (m)) length overall using jig or hook-and-line gear in the Bogoslof Pacific cod exemption area of the BSAI, effective 1200 hrs, A.l.t., February 22, 2006, through 2400 hrs, A.l.t., December 31, 2006 (71 FR 9739, February 27, 2006). NMFS prohibited directed fishing for Pacific cod by catcher vessels 60 feet (18.3 meters (m)) length overall and longer using hook-and-line gear in the BSAI effective 1200 hrs, A.l.t., February 24, 2006, through 1200 hrs, A.l.t., June 10, 2006, to be published March 1, 2006, in the Federal Register.

These closures remain effective under authority of these 2006 and 2007 final harvest specifications. These closures supersede the closures announced under authority of the 2005 and 2006 final harvest specifications (69 FR 8979, February 24, 2005). While these closures are in effect, the maximum retainable amounts at § 679.20(e) and (f) apply at any time during a fishing trip. These closures to directed fishing are in addition to closures and prohibitions found in regulations at 50 CFR part 679.

Bering Sea Subarea Inshore Pollock Allocations

Section 679.4(l) sets forth the procedures for AFA inshore catcher vessel pollock cooperatives to apply for and receive cooperative fishing permits and inshore pollock allocations. Table 10 lists the 2006 and 2007 Bering Sea subarea pollock allocations to the seven inshore catcher vessel pollock cooperatives based on 2006 cooperative allocations that have been approved and permitted by NMFS for the 2006 fishing year. The Bering Sea subarea allocations may be revised pending adjustments to cooperatives' membership in 2007. Allocations for cooperatives and open access vessels are not made for the AI subarea because the Consolidated Appropriations Act of 2004 requires the non-CDQ directed pollock fishery to be fully allocated to the Aleut Corporation.

Table 10.—2006 and 2007 Bering Sea Subarea Inshore Cooperative Allocations
[Amounts are in metric tons]
Cooperative name and member vessels | Sum of member vessel's official catch histories¹ (mt) | Percentage of inshore sector allocation | 2006 annual cooperative allocation (mt) | 2007 annual cooperative allocation (mt)
Akutan Catcher Vessel Association |  | 31.145 | 201,154 | 203,186
Arctic Enterprise Association |  | 1.146 | 7,402 | 7,476
Northern Victor Fleet Cooperative |  | 8.412 | 54,330 | 54,879
Peter Pan Fleet Cooperative |  | 2.876 | 18,575 | 18,763
Unalaska Cooperative |  | 12.191 | 78,737 | 79,533
UniSea Fleet Cooperative |  | 25.324 | 163,559 | 165,211
Westward Fleet Cooperative |  | 18.906 | 122,107 | 123,340
Open access AFA vessels |  | 0 | 0 | 0
Total inshore allocation | 875,572 | 100 | 645,864 | 652,388
¹ According to regulations at § 679.62(e)(1), the individual catch history for each vessel is equal to the vessel's best 2 of 3 years inshore pollock landings from 1995 through 1997 and includes landings to catcher/processors for vessels that made 500 or more mt of landings to catcher/processors from 1995 through 1997.

Section 679.20(a)(5)(i)(A)(3) further divides the inshore sector allocation into separate allocations for cooperative and open access fishing. In addition, according to § 679.22(a)(7)(vii), NMFS must establish harvest limits inside the SCA and provide a set-aside so that catcher vessels less than or equal to 99 ft (30.2 m) LOA have the opportunity to operate entirely within the SCA until April 1. Accordingly, Table 11 lists the Bering Sea subarea pollock allocation to the inshore cooperative and open access sectors and establishes a cooperative-sector SCA set-aside for AFA catcher vessels less than or equal to 99 ft (30.2 m) LOA. The SCA set-aside for catcher vessels less than or equal to 99 ft (30.2 m) LOA that are not participating in a cooperative will be established inseason based on actual participation levels and is not included in Table 11.

Table 11.—2006 and 2007 Bering Sea Subarea Pollock Allocations to the Cooperative and Open Access Sectors of the Inshore Pollock Fishery
[Amounts are in metric tons]
Sector | 2006 A season TAC | 2006 A season SCA harvest limit ¹ | 2006 B season TAC | 2007 A season TAC | 2007 A season SCA harvest limit ¹ | 2007 B season TAC
Inshore cooperative sector:
Vessels > 99 ft | n/a | 155,408 | n/a | n/a | 156,923 | n/a
Vessels < 99 ft | n/a | 25,488 | n/a | n/a | 25,746 | n/a
Total | 258,345 | 180,842 | 387,518 | 260,955 | 182,669 | 391,433
Open access sector | 0 | 0 ² | 0 | 0 | 0 ² | 0
Total inshore sector | 258,345 | 180,842 | 387,518 | 260,955 | 182,669 | 391,433
¹ The Steller sea lion conservation area (SCA) is established at § 679.22(a)(7)(vii).
² The SCA limitations for vessels less than or equal to 99 ft LOA that are not participating in a cooperative will be established on an inseason basis in accordance with § 679.22(a)(7)(vii)(C)(2) that specifies that “the Regional Administrator will prohibit directed fishing for pollock by vessels greater than 99 ft (30.2 m) LOA, catching pollock for processing by the inshore component before reaching the inshore SCA harvest limit before April 1 to accommodate fishing by vessels less than or equal to 99 ft (30.2 m) inside the SCA until April 1.”

Listed AFA Catcher/Processor Sideboard Limits

According to § 679.64(a), the Regional Administrator will restrict the ability of listed AFA catcher/processors to engage in directed fishing for groundfish species other than pollock to protect participants in other groundfish fisheries from adverse effects resulting from the AFA and from fishery cooperatives in the directed pollock fishery. The basis for these sideboard limits is described in detail in the final rule implementing major provisions of the AFA (67 FR 79692, December 30, 2002). Table 12 lists the 2006 and 2007 catcher/processor sideboard limits.

All groundfish other than pollock that are harvested by listed AFA catcher/processors, whether as targeted catch or incidental catch, will be deducted from the sideboard limits in Table 12. However, groundfish other than pollock that are delivered to listed catcher/processors by catcher vessels will not be deducted from the 2006 and 2007 sideboard limits for the listed catcher/processors.

Table 12.—2006 and 2007 Listed BSAI American Fisheries Act Catcher/Processor Groundfish Sideboard Limits
[Amounts are in metric tons]
Target species | Area | 1995-1997: Retained catch | 1995-1997: Total catch | 1995-1997: Ratio of retained catch to total catch | 2006 ITAC available to trawl C/Ps | 2006 C/P sideboard limit | 2007 ITAC available to trawl C/Ps | 2007 C/P sideboard limit
Pacific cod trawl | BSAI | 12,424 | 48,177 | 0.258 | 42,171 | 10,880 | 32,171 | 8,300
Sablefish trawl | BS | 8 | 497 | 0.016 | 1,199 | 19 | 1,148 | 18
| AI | 0 | 145 | 0.000 | 638 | 0 | 582 | 0
Atka mackerel | Central AI | n/a | n/a | n/a | n/a | n/a | n/a | n/a
| A season ¹ | n/a | n/a | 0.115 | 18,500 | 2,128 | 17,575 | 2,021
| HLA limit ² | n/a | n/a | n/a | 11,100 | 1,277 | 10,545 | 1,213
| B season ¹ | n/a | n/a | 0.115 | 18,500 | 2,128 | 17,575 | 2,021
| HLA limit ² | n/a | n/a | n/a | 11,100 | 1,277 | 10,545 | 1,213
| Western AI | n/a | n/a | n/a | n/a | n/a | n/a | n/a
| A season ¹ | n/a | n/a | 0.200 | 7,169 | 1,434 | 8,094 | 1,619
| HLA limit ² | n/a | n/a | n/a | 4,301 | 860 | 4,856 | 971
| B season ¹ | n/a | n/a | 0.200 | 7,169 | 1,434 | 8,094 | 1,619
| HLA limit ² | n/a | n/a | n/a | 4,301 | 860 | 4,856 | 971
Yellowfin sole | BSAI | 100,192 | 435,788 | 0.230 | 81,346 | 18,710 | 91,495 | 21,044
Rock sole | BSAI | 6,317 | 169,362 | 0.037 | 35,275 | 1,305 | 37,400 | 1,384
Greenland turbot | BS | 121 | 17,305 | 0.007 | 1,607 | 11 | 1,543 | 11
| AI | 23 | 4,987 | 0.005 | 723 | 4 | 693 | 3
Arrowtooth flounder | BSAI | 76 | 33,987 | 0.002 | 11,050 | 22 | 15,300 | 31
Flathead sole | BSAI | 1,925 | 52,755 | 0.036 | 16,575 | 597 | 18,700 | 673
Alaska plaice | BSAI | 14 | 9,438 | 0.001 | 6,800 | 7 | 12,750 | 13
Other flatfish | BSAI | 3,058 | 52,298 | 0.058 | 2,975 | 173 | 4,250 | 247
Pacific ocean perch | BS | 12 | 4,879 | 0.002 | 1,190 | 2 | 2,516 | 5
| Eastern AI | 125 | 6,179 | 0.020 | 2,849 | 57 | 3,012 | 60
| Central AI | 3 | 5,698 | 0.001 | 2,808 | 3 | 2,971 | 3
| Western AI | 54 | 13,598 | 0.004 | 4,703 | 19 | 4,969 | 20
Northern rockfish | BSAI | 91 | 13,040 | 0.007 | 4,163 | 29 | 4,625 | 32
Shortraker rockfish | BSAI | 50 | 2,811 | 0.018 | 537 | 10 | 537 | 10
Rougheye rockfish | BSAI | 50 | 2,811 | 0.018 | 207 | 4 | 207 | 4
Other rockfish | BS | 18 | 621 | 0.029 | 426 | 12 | 750 | 22
| AI | 22 | 806 | 0.027 | 502 | 14 | 502 | 14
Squid | BSAI | 73 | 3,328 | 0.022 | 1,084 | 24 | 1,084 | 24
Other species | BSAI | 553 | 68,672 | 0.008 | 24,650 | 197 | 22,950 | 184
¹ The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
² Harvest Limit Area (HLA) limit refers to the amount of each seasonal allowance that is available for fishing inside the HLA (see § 679.2). In 2006 and 2007, 60 percent of each seasonal allowance is available for fishing inside the HLA in the Western and Central Aleutian Districts.

Section 679.64(a)(5) establishes a formula for PSC sideboard limits for listed AFA catcher/processors. The basis for these sideboard limits is described in detail in the final rule implementing major provisions of the AFA (67 FR 79692, December 30, 2002).

PSC species listed in Table 13 that are caught by listed AFA catcher/processors participating in any groundfish fishery other than pollock will accrue against the 2006 and 2007 PSC sideboard limits for the listed AFA catcher/processors. Section 679.21(e)(3)(v) authorizes NMFS to close directed fishing for groundfish other than pollock for listed AFA catcher/processors once a 2006 or 2007 PSC sideboard limit listed in Table 13 is reached.

Crab or halibut PSC that is caught by listed AFA catcher/processors while fishing for pollock will accrue against the bycatch allowances annually specified for either the midwater pollock or the pollock/Atka mackerel/“other species” fishery categories under regulations at § 679.21(e)(3)(iv).

Table 13.—2006 and 2007 BSAI American Fisheries Act Listed Catcher/Processor Prohibited Species Sideboard Limits ¹
PSC species | 1995-1997: PSC catch | 1995-1997: Total PSC | 1995-1997: Ratio of PSC catch to total PSC | 2006 and 2007 PSC available to trawl vessels | 2006 and 2007 C/P sideboard limit
Halibut mortality | 955 | 11,325 | 0.084 | 3,400 | 286
Red king crab | 3,098 | 473,750 | 0.007 | 182,225 | 1,276
C. opilio ² | 2,323,731 | 15,139,178 | 0.153 | 5,329,548 | 815,421
C. bairdi | n/a | n/a | n/a | n/a | n/a
Zone 1 ² | 385,978 | 2,750,000 | 0.140 | 906,500 | 126,910
Zone 2 ² | 406,860 | 8,100,000 | 0.050 | 2,747,250 | 137,363
¹ Halibut amounts are in metric tons of halibut mortality. Crab amounts are in numbers of animals.
² Refer to § 679.2 for definitions of areas.

AFA Catcher Vessel Sideboard Limits

Pursuant to § 679.64(a), the Regional Administrator restricts the ability of AFA catcher vessels to engage in directed fishing for groundfish species other than pollock to protect participants in other groundfish fisheries from adverse effects resulting from the AFA and from fishery cooperatives in the directed pollock fishery. Section 679.64(b) establishes a formula for setting AFA catcher vessel groundfish and PSC sideboard limits for the BSAI. The basis for these sideboard limits is described in detail in the final rule implementing major provisions of the AFA (67 FR 79692, December 30, 2002). Tables 14 and 15 list the 2006 and 2007 AFA catcher vessel sideboard limits.

All harvests of groundfish sideboard species made by non-exempt AFA catcher vessels, whether as targeted catch or incidental catch, will be deducted from the sideboard limits listed in Table 14.

Table 14.—2006 and 2007 BSAI American Fisheries Act Catcher Vessel Sideboard Limits
[Amounts are in metric tons]
Species | Fishery by area/season/ processor/gear | Ratio of 1995-1997 AFA CV catch to 1995-1997 TAC | 2006 initial TAC | 2006 catcher vessel sideboard limits | 2007 initial TAC | 2007 catcher vessel sideboard limits
Pacific cod | BSAI | n/a | n/a | n/a | n/a | n/a
| Jig gear | 0.0000 | 3,589 | 0 | 2,738 | 0
| Hook-and-line CV | n/a | n/a | n/a | n/a | n/a
| Jan 1-Jun 10 | 0.0006 | 164 | 0 | 125 | 0
| Jun 10-Dec 31 | 0.0006 | 109 | 0 | 83 | 0
| Pot gear CV | n/a | n/a | n/a | n/a | n/a
| Jan 1-Jun 10 | 0.0006 | 8,192 | 5 | 6,239 | 4
| Sept 1-Dec 31 | 0.0006 | 5,461 | 3 | 4,159 | 2
| CV < 60 feet LOA using hook-and-line or pot gear | 0.0006 | 1,274 | 1 | 970 | 1
| Trawl gear CV | n/a | n/a | n/a | n/a | n/a
| Jan 20-Apr 1 | 0.8609 | 29,520 | 25,414 | 22,520 | 19,387
| Apr 1-Jun 10 | 0.8609 | 4,217 | 3,630 | 3,217 | 2,770
| Jun 10-Nov 1 | 0.8609 | 8,434 | 7,261 | 6,434 | 5,539
Sablefish | BS trawl gear | 0.0906 | 1,199 | 109 | 1,148 | 104
| AI trawl gear | 0.0645 | 638 | 41 | 582 | 38
Atka mackerel | Eastern AI/BS | n/a | n/a | n/a | n/a | n/a
| Jig gear | 0.0031 | 69 | 0 | 69 | 0
| Other gear | n/a | n/a | n/a | n/a | n/a
| Jan 1-Apr 15 | 0.0032 | 3,434 | 11 | 3,434 | 11
| Sept 1-Nov 1 | 0.0032 | 3,434 | 11 | 3,434 | 11
| Central AI | n/a | n/a | n/a | n/a | n/a
| Jan-Apr 15 | 0.0001 | 18,500 | 2 | 17,575 | 2
| HLA limit | 0.0001 | 11,100 | 1 | 10,545 | 1
| Sept 1-Nov 1 | 0.0001 | 18,500 | 2 | 17,575 | 2
| HLA limit | 0.0001 | 11,100 | 1 | 10,545 | 1
| Western AI | n/a | n/a | n/a | n/a | n/a
| Jan-Apr 15 | 0.0000 | 7,169 | 0 | 8,094 | 0
| HLA limit | n/a | 4,301 | 0 | 4,856 | 0
| Sept 1-Nov 1 | 0.0000 | 7,169 | 0 | 8,094 | 0
| HLA limit | n/a | 4,301 | 0 | 4,856 | 0
Yellowfin sole | BSAI | 0.0647 | 81,346 | 5,263 | 91,495 | 5,920
Rock sole | BSAI | 0.0341 | 35,275 | 1,203 | 37,400 | 1,275
Greenland Turbot | BS | 0.0645 | 1,607 | 104 | 1,543 | 100
| AI | 0.0205 | 723 | 15 | 693 | 14
Arrowtooth flounder | BSAI | 0.0690 | 11,050 | 762 | 15,300 | 1,056
Alaska plaice | BSAI | 0.0441 | 6,800 | 300 | 12,750 | 562
Other flatfish | BSAI | 0.0441 | 2,975 | 131 | 4,250 | 187
Pacific ocean perch | BS | 0.1000 | 1,190 | 119 | 2,516 | 252
| Eastern AI | 0.0077 | 2,849 | 22 | 3,012 | 23
| Central AI | 0.0025 | 2,808 | 7 | 2,971 | 7
| Western AI | 0.0000 | 4,703 | 0 | 4,969 | 0
Northern rockfish | BSAI | 0.0084 | 4,163 | 35 | 4,625 | 39
Shortraker rockfish | BSAI | 0.0037 | 537 | 2 | 537 | 2
Rougheye rockfish | BSAI | 0.0037 | 207 | 1 | 207 | 1
Other rockfish | BS | 0.0048 | 426 | 2 | 750 | 4
| AI | 0.0095 | 502 | 5 | 502 | 5
Squid | BSAI | 0.3827 | 1,084 | 415 | 1,084 | 415
Other species | BSAI | 0.0541 | 24,650 | 1,334 | 22,950 | 1,242
Flathead Sole | BS trawl gear | 0.0505 | 16,575 | 837 | 18,700 | 944

Halibut and crab PSC that are caught by AFA catcher vessels participating in any groundfish fishery for groundfish other than pollock listed in Table 15 will accrue against the 2006 and 2007 PSC sideboard limits for the AFA catcher vessels. Sections 679.21(d)(8) and (e)(3)(v) provide authority to close directed fishing for groundfish other than pollock for AFA catcher vessels once a 2006 or 2007 PSC sideboard limit listed in Table 15 for the BSAI is reached. The PSC that is caught by AFA catcher vessels while fishing for pollock in the BSAI will accrue against the bycatch allowances annually specified for either the midwater pollock or the pollock/Atka mackerel/“other species” fishery categories under regulations at § 679.21(e)(3)(iv).

Table 15.—2006 and 2007 American Fisheries Act Catcher Vessel Prohibited Species Catch Sideboard Limits for the BSAI ¹
[Amounts are in metric tons]
PSC species | Target fishery category ² | Ratio of 1995-1997 AFA CV retained catch to total retained catch | 2006 and 2007 PSC limit | 2006 and 2007 AFA catcher vessel PSC sideboard limit
Halibut | Pacific cod trawl | 0.6183 | 1,434 | 887
| Pacific cod hook-and-line or pot | 0.0022 | 775 | 2
| Yellowfin sole | n/a | n/a | n/a
| January 20-April 1 | 0.1144 | 262 | 30
| April 1-May 21 | 0.1144 | 195 | 22
| May 21-July 1 | 0.1144 | 49 | 6
| July 1-December 31 | 0.1144 | 380 | 43
| Rock sole/flathead sole/other flatfish ⁵ | n/a | n/a | n/a
| January 20-April 1 | 0.2841 | 448 | 127
| April 1-July 1 | 0.2841 | 164 | 47
| July 1-December 31 | 0.2841 | 167 | 47
| Turbot/Arrowtooth/Sablefish | 0.2327 | 0 | 0
| Rockfish (July 1-December 31) | 0.0245 | 69 | 2
| Pollock/Atka mackerel/other species | 0.0227 | 232 | 5
Red King Crab | Pacific cod | 0.6183 | 26,563 | 16,424
Zone 1 ³,⁴ | Yellowfin sole | 0.1144 | 33,843 | 3,872
| Rock sole/flathead sole/other flatfish ⁵ | 0.2841 | 121,413 | 34,493
| Pollock/Atka mackerel/other species | 0.0227 | 406 | 9
C. opilio | Pacific cod | 0.6183 | 184,402 | 114,016
COBLZ ³ | Yellowfin sole | 0.1144 | 4,103,752 | 469,469
| Rock sole/flathead sole/other flatfish ⁵ | 0.2841 | 810,091 | 230,147
| Pollock/Atka mackerel/other species | 0.0227 | 106,591 | 2,420
| Rockfish | 0.0245 | 62,356 | 1,528
| Turbot/Arrowtooth/Sablefish | 0.2327 | 62,356 | 14,510
C. bairdi | Pacific cod | 0.6183 | 183,112 | 113,218
Zone 1 ³ | Yellowfin sole | 0.1144 | 340,844 | 38,993
| Rock sole/flathead sole/other flatfish ⁵ | 0.2841 | 365,320 | 103,787
| Pollock/Atka mackerel/other species | 0.0227 | 17,224 | 391
C. bairdi | Pacific cod | 0.6183 | 324,176 | 200,438
Zone 2 ³ | Yellowfin sole | 0.1144 | 1,788,459 | 204,600
| Rock sole/flathead sole/other flatfish ⁵ | 0.2841 | 596,154 | 169,367
| Pollock/Atka mackerel/other species | 0.0227 | 27,473 | 624
| Rockfish | 0.0245 | 10,988 | 269
¹ Halibut amounts are in metric tons of halibut mortality. Crab amounts are in numbers of animals.
² Target fishery categories are defined in regulation at § 679.21(e)(3)(iv).
³ Refer to § 679.2 for definitions of areas.
⁴ In December 2005, the Council recommended that red king crab bycatch for trawl fisheries within the RKCSS be limited to 35 percent of the total allocation to the rock sole/flathead sole/“other flatfish” fishery category (see § 679.21(e)(3)(ii)(B)).
⁵ “Other flatfish” for PSC monitoring includes all flatfish species, except for halibut (a prohibited species), Greenland turbot, rock sole, yellowfin sole, arrowtooth flounder.

Sideboard Directed Fishing Closures

AFA Catcher/Processor and Catcher Vessel Sideboard Closures

The Regional Administrator has determined that many of the AFA catcher/processor and catcher vessel sideboard limits listed in Tables 16 and 17 are necessary as incidental catch to support other anticipated groundfish fisheries for the 2006 fishing year. In accordance with § 679.20(d)(1)(iv), the Regional Administrator establishes the sideboard limits listed in Tables 16 and 17 as directed fishing allowances. The Regional Administrator finds that many of these directed fishing allowances will be reached before the end of the year. Therefore, in accordance with § 679.20(d)(1)(iii), NMFS is prohibiting directed fishing by listed AFA catcher/processors for the species in the specified areas set out in Table 16 and directed fishing by non-exempt AFA catcher vessels for the species in the specified areas set out in Table 17.

Table 16.—2006 and 2007 American Fisheries Act Listed Catcher/Processor Sideboard Directed Fishing Closures¹
[Amounts are in metric tons]
Species | Area | Gear types | 2006 sideboard limit | 2007 sideboard limit
Sablefish trawl | BS | Trawl | 19 | 18
| AI | Trawl | 0 | 0
Rock sole | BSAI | all | 1,305 | 1,384
Greenland turbot | BS | all | 11 | 11
| AI | all | 4 | 3
Arrowtooth flounder | BSAI | all | 22 | 31
Pacific ocean perch | BS | all | 2 | 5
| Eastern AI | all | 57 | 60
| Central AI | all | 3 | 3
| Western AI | all | 19 | 20
Northern rockfish | BSAI | all | 29 | 32
Shortraker rockfish | BSAI | all | 10 | 10
Rougheye rockfish | BSAI | all | 4 | 4
Other rockfish | BS | all | 12 | 22
| AI | all | 14 | 14
Squid | BSAI | all | 24 | 24
“Other species” | BSAI | all | 197 | 184
¹Maximum retainable amounts may be found in Table 11 to 50 CFR part 679.

Table 17.—2006 and 2007 American Fisheries Act Catcher Vessel Sideboard Directed Fishing Closures¹
[Amounts are in metric tons]
Species | Area | Gear types | 2006 sideboard limit | 2007 sideboard limit
Pacific cod | BSAI | hook-and-line | 0 | 0
| BSAI | pot | 9 | 9
| BSAI | jig | 0 | 0
Sablefish | BS | trawl | 109 | 104
| AI | trawl | 41 | 38
Atka mackerel | Eastern AI/BS | jig | 0 | 0
| Eastern AI/BS | other | 11 | 11
| Central AI | all | 2 | 2
| Western AI | all | 0 | 0
Greenland Turbot | BS | all | 104 | 100
| AI | all | 15 | 14
Arrowtooth flounder | BSAI | all | 762 | 1,056
Pacific ocean perch | BS | all | 119 | 252
| Eastern AI | all | 22 | 23
| Central AI | all | 7 | 7
| Western AI | all | 0 | 0
Northern rockfish | BSAI | all | 35 | 39
Shortraker rockfish | BSAI | all | 2 | 2
Rougheye rockfish | BSAI | all | 1 | 1
Other rockfish | BS | all | 2 | 4
| AI | all | 5 | 5
Squid | BSAI | all | 415 | 415
“Other species” | BSAI | all | 1,334 | 1,242
¹ Maximum retainable amounts may be found in Table 11 to 50 CFR part 679.

Response to Comments

NMFS received one letter of comment in response to the proposed 2006 and 2007 harvest specifications. This letter contained 6 separate comments that are summarized and responded to below.

Comment 1: The action is a major federal action that has significant effects on the quality of the human environment and requires an Environmental Impact Statement.

Response: NMFS prepared an EA for the 2006 and 2007 harvest specifications. The analysis in the EA supports a finding of no significant impact on the human environment as a result of the harvest specifications. Therefore, an environmental impact statement is not required under section 102(2)(c) of the National Environmental Policy Act or its implementing regulations.

Comment 2: The “Ecosystem Considerations” report is not explicitly integrated into the process of setting ABC and TAC. NMFS should also integrate directly ecosystem needs into harvest specifications through development and implementation of Ecologically Sustainable Yield (ESY).

Response: ESY is defined as “the yield an ecosystem can sustain without shifting to an undesirable state” (Zabel et al. 2003). This is a qualitative concept because judging an “undesirable state” may vary widely. ESY requires simultaneously considering the impacts of all harvested species on an ecosystem and quantifying important qualities such as community stability or resilience. This poses challenges due to uncertainty and indeterminacy inherent in ecological systems and the fact that ecosystems respond to natural processes in ways that are not well understood.

The NMFS and the Council, in essence, fulfill determinations of the ESYs through the development and evaluation of the SAFE report (see ADDRESSES) and during implementation of inseason multispecies fisheries management practices. The SAFE report evaluates the status and trends of the entire ecosystem. Also, the SAFE report responds to the stated ecosystem-based management goals of the Council. These goals are: (1) Maintain biodiversity consistent with natural evolutionary and ecological processes, including dynamic change and variability; (2) Maintain and restore habitats essential for fish and their prey; (3) Maintain system sustainability and sustainable yields for human consumption and nonextractive uses; and (4) Maintain the concept that humans are components of the ecosystem.

All groundfish species are currently managed for their impacts from a conservation and ecosystem perspective. As an example, the recent development of the Gulf of Alaska (GOA) skate fishery led to prompt management action to provide appropriate protection of this species assemblage. Currently, there are ABC levels specified for the two main species of skates over three different areas. This effectively has prohibited the further development of a directed fishery for skates until more information is available to ensure appropriate conservation measures are taken.

Zabel, R.W., C.J. Harvey, S.L. Katz, T.P. Good, and P.S. Levin. 2003. Ecologically sustainable yield. American Scientist 91: 150-157.

Comment 3: Catch levels for North Pacific rockfish are being set without sufficient precaution. They are based on inadequate and highly variable biomass estimates, without regard to stock structure and without proper consideration of life history characteristics such as rockfish longevity, late age at sexual maturity, and the increased reproductive success of older, more fecund female fish.

Response: Multiple layers of precaution are built into catch levels for North Pacific rockfish with age-structured models (Tier 3). For example, GOA Pacific ocean perch are assigned an FABC at F40%. Bayesian spawner-recruit analysis showed that maximum sustainable yield (MSY) was attained at approximately F29%. While the target fishing mortality is already well below MSY, the Eastern GOA is closed to trawling, further reducing fishing mortality by 10 percent. Another precautionary layer is to employ a catchability coefficient near two. This means that the fishing mortality is applied to a biomass estimate that is about half of the biomass estimate that is derived from the trawl survey. The age-structured modeling approach integrates a variety of information to compensate for variable survey results.

Catch levels for North Pacific rockfish with survey-biomass based models (Tier 5) are based on highly variable biomass estimates. This variability is stabilized by using a 3-survey moving average. The catch levels for these species are set by applying a fishing mortality of 75 percent of the natural mortality to the average exploitable biomass. These fishing mortalities are precautionary in that they are theoretically at least 25 percent below MSY fishing mortality and are based on very low natural mortalities (e.g., 0.02-0.07).

At this time, stock structure information has not been synthesized directly into the stock assessments because of the lack of definitive structure and sufficient data to model spatially explicit populations. However, life history characteristics are explicitly accounted for in both the fishing mortality estimates in age-structured models (Tier 3) and in survey-biomass based estimates (Tier 5). In age-structured models, age at maturity is defined specific to each species and longevity is incorporated in the natural mortality estimates and the age data. For survey biomass based models, this information is not as well known, but the low natural mortality estimates for rockfish species is based on their maximum age. Recent research of black rockfish off the West Coast shows evidence of older, mature fish being more fecund, or producing higher quality larvae, than younger mature fish. Research is in progress to attempt to answer this question for Alaskan rockfish.

Comment 4: Signs of stress in North Pacific rockfish populations include age truncation, localized depletion, and potential overfishing.

Response: Some age truncation will occur if a stock is fished. Only GOA Pacific ocean perch showed more age truncation than was expected at equilibrium. However, this population is not at equilibrium and has increased substantially in the last decade. Therefore, the observed age truncation may be from fishing, but it also may be from the recent strength of recruitment substantially increasing the proportion of younger fish.

Three species of rockfish have shown localized depletion in some years and areas. Most of the significant depletions did not occur in the same place or in consecutive years. The densities were as high as they were in the previous year when fishing resumed, implying migration and replenishment when depletions did occur in the same place or in consecutive years.

Recently, North Pacific rockfish species have not been subject to consistent overfishing.

Comment 5: NMFS should support the proposal by Goodman et al. in the review of the North Pacific harvest strategy to shift to F50% to F60%-based harvest rates as one step in sustainable rockfish management.

Response: There has been no evidence that Alaskan rockfish need to have a more conservative spawning output per recruit (SPR) rate than other species. Goodman et al. presented evidence based on less productive West Coast rockfish. The fishing mortality derived from an F40% strategy is much lower for rockfish with their sensitive life history characteristics than the fishing mortalities derived from the same harvest strategy for other species. This is due to the late maturity, slow growth, and low natural mortality of rockfish. For example, the fishing mortality rate for rougheye rockfish is about one tenth the fishing mortality rate for Pacific cod. Several analyses for Pacific ocean perch show F40% to be relatively conservative for rockfish.

Comment 6: NMFS should set separate TAC and OFL levels for rougheye rockfish in the Bering Sea and Aleutian Islands and consider the closure of bycatch hotspots.

Response: Separation of the rougheye rockfish TAC into the Bering Sea and AI subareas would be based on the proportion of the available biomass in each subarea. Recent surveys estimate the biomass of BSAI rougheye rockfish as 11 percent in the Bering Sea subarea and 89 percent in the AI subarea. Therefore, a separate rougheye rockfish TAC for the AI subarea would not be much lower than the TAC for the BSAI area, and would offer little additional protection for AI rougheye rockfish. Also, the biomass estimate used for BSAI rougheye rockfish is based on the AI survey data. The two years of the Bering Sea slope survey (2002 and 2004) have not been used in the stock assessment due to the short length of this new time series. Basing the BSAI stock assessment on only the AI survey biomass produces more conservative (lower) estimates of rougheye rockfish biomass and TACs.

A separate TAC for Bering Sea subarea rougheye rockfish could potentially prevent disproportionate harvesting, but the available data are not sufficient to manage rougheye rockfish in the Bering Sea subarea as a separate stock. As mentioned above, the slope survey time series consists of two years, and very limited age and length composition sampling has occurred for rougheye rockfish on the Bering Sea slope. Because BSAI rougheye rockfish are obtained as incidental catch, setting separate ABCs for the Bering Sea and AI subareas may result in more regulatory discarding.

Several management measures are in place to minimize and distribute catch of BSAI rougheye rockfish. Rougheye rockfish are closed to directed fishing for the entire year and are taken only in association with other directed fisheries. As a result, catch is partitioned consistent with the population distribution described above. In 2004 and 2005, 89 percent and 87 percent, respectively, of the catch occurred in the AI subarea.

Rougheye rockfish are taken predominately in the Atka mackerel and Pacific ocean perch fisheries in the AI subarea. The directed Atka mackerel and Pacific ocean perch fisheries are divided into three separate Aleutian Islands districts. Distribution of the target fisheries also distributes the incidental catch of rougheye rockfish.

Because rougheye rockfish are not open to directed fishing and the directed fisheries that catch rougheye rockfish are distributed by three districts in the Aleutian Island subarea, creation of a separate TAC within the AI subarea for rougheye rockfish would not serve to reduce the potential of localized depletion. Conversely, separate TACs could serve to increase discards.

Retention rates are set low to discourage intentional targeting within the directed fisheries. For rougheye rockfish the maximum retention rate is 2 percent in the Atka mackerel fishery and 7 percent in the Pacific ocean perch fishery.

In the North Pacific, localized depletion has been examined for several rockfish species including Pacific ocean perch, northern rockfish, and dusky rockfish. Localized depletion was found to occur in some years and areas, but has generally not diminished stock densities over successive years. Fishery catch per unit effort data is used as an index of stock abundance to examine localized depletion on short time scales. Because rougheye rockfish are not subject to a direct fishery and are obtained as incidental catch, fishery catch per unit effort may not accurately reflect population size, thus limiting the data available for examining localized depletion for this species.

Small Entity Compliance Guide

The following information is a plain language guide to assist small entities in complying with this final rule as required by the Small Business Regulatory Enforcement Fairness Act of 1996. This final rule's primary management measures are to announce 2006 and 2007 final harvest specifications and prohibited species bycatch allowances for the groundfish fishery of the BSAI. This action is necessary to establish harvest limits and associated management measures for groundfish during the 2006 and 2007 fishing years and to accomplish the goals and objectives of the FMP. This action affects all fishermen who participate in the BSAI fishery. The specific amounts of OFL, ABC, TAC and PSC amounts are provided in tabular form to assist the reader. NMFS will announce closures of directed fishing in the Federal Register and in information bulletins released by the Alaska Region. Affected fishermen should keep themselves informed of such closures.

Classification

This action is authorized under § 679.20 and is exempt from review under Executive Order 12866.

A Final Regulatory Flexibility Analysis (FRFA) was prepared to evaluate the impacts of the 2006 and 2007 harvest level specifications on directly regulated small entities. This FRFA is intended to meet the statutory requirements of the Regulatory Flexibility Act (RFA).

The proposed rule for the BSAI harvest specifications was published in the Federal Register on December 16, 2005 (70 FR 74723). An Initial Regulatory Flexibility Analysis (IRFA) was prepared for the proposed rule and was described in the classifications section of that preamble to the rule. Copies of the IRFA prepared for this action are available from NMFS, Alaska Region (see ADDRESSES). The public comment period ended on January 17, 2006. No comments were received on the IRFA or regarding the economic impacts of this rule.

The 2006 and 2007 harvest specifications establish harvest limits for the groundfish species and species groups in the BSAI. This action is necessary to allow fishing in 2006 and 2007. About 946 small catcher vessels, 29 small catcher/processors, and six small private non-profit CDQ groups may be directly regulated by the BSAI harvest specifications. This regulation does not impose new recordkeeping or reporting requirements on the regulated small entities.

The FRFA examined the impacts of the preferred alternative on small entities within fisheries defined by the harvest of species groups whose TACs might be affected by the harvest specifications. The FRFA identified the potential for adverse impacts of the preferred alternative on small fishing operations harvesting Pacific cod, Greenland turbot, northern rockfish, and “other species” in the BSAI and on CDQ groups operating in the BSAI.

There were an estimated 120 directly regulated small entities in the BSAI Pacific cod sector. These small operations were projected to see a 3 percent decline in their gross revenues from all sources in 2006 and 14 percent (from 2005 levels) in 2007. There were an estimated 24 directly regulated small entities in the BSAI Greenland turbot sector. These small operations were projected to see less than a 1 percent reduction in their gross revenues from 2005 levels in both 2006 and 2007. There were an estimated 2 small entities in the BSAI northern rockfish sector. While detailed information cannot be provided for these two operations because of confidentiality restrictions, BSAI northern rockfish revenues for these two vessels were significantly less than 1 percent of their annual revenues; therefore, any decrease that may occur in the BSAI northern rockfish allocation in 2006 would have less than a 1 percent reduction in their gross revenues. There were an estimated 28 directly regulated small entities in the BSAI “other species” sector. These small operations were expected to see their revenues decline by a fraction of a percent from 2005 levels in 2006 and 2007. Six non-profit CDQ groups operating in the BSAI were expected to see their revenues drop by under 1 percent between 2005 and 2006 and by about 2 percent between 2005 and 2007.

Although the preferred alternative had adverse impacts on some classes of small entities compared to the fishery in the preceding year, alternatives that had smaller adverse impacts were precluded by biological management concerns. Four alternatives were evaluated in addition to the preferred alternative. Alternative 1 set TACs equal to the maxFABC fishing rate. Alternative 1 was associated with high TACs, high revenues, and TACs that exceeded the statutory BSAI OY. Alternative 2, the preferred alternative, set TACs to produce the fishing rates recommended by the Council on the basis of Plan Team and SSC recommendations. Alternative 3 set TACs to produce fishing rates equal to half the maxFABC, and Alternative 4 set TACs to produce fishing rates equal to the last five years' average fishing rate. Alternative 5 set TACs equal to zero.

BSAI fishermen and CDQ groups would have had larger gross revenues under Alternative 1 than under the preferred alternative. However, Alternative 1 involves TAC levels that are precluded by law since they would exceed the statutory two million mt BSAI OY. In order to stay within the OY threshold, increases in some TACs would have had to be offset by decreases in other TACs. Moreover, in 2006 and 2007, the BSAI Pacific cod TACs are set equal to the ABCs recommended by the Council's BSAI Plan Team and SSC. Higher TACs would not be consistent with prudent biological management of the fishery; therefore, Alternative 2 was chosen instead of Alternative 1 because it sets TACs as high as possible while still protecting the biological health of the stock. Alternative 2 was chosen instead of Alternatives 3, 4, or 5 because it provided higher levels of overall harvest and revenue.

Under the provisions of 5 U.S.C. 553(d)(3), an agency can waive a delay in the effective date of a substantive rule for good cause. If the final harvest specifications are not effective by March 5, 2006, which is the start of the Pacific halibut season as specified by the IPHC, the longline sablefish fishery will not begin concurrently with the Pacific halibut season. This would cause sablefish that is caught with Pacific halibut to be discarded, as both longline sablefish and Pacific halibut are managed under the same Individual Fishing Quota program. Immediate effectiveness of the 2006 and 2007 final harvest specifications will allow the sablefish fishery to begin concurrently with the Pacific halibut season. Accordingly, I find that there is good cause to waive the 30-day delayed effectiveness period under 5 U.S.C. 553(d)(3) with respect to such provisions and to the apportionment discussed above. Also, by regulation, the AFA cooperative applications are due to NMFS on December 1, 2005, providing the basis for the final AFA cooperative allocation. The 2006 cooperatives changed from 2005 as a result of 5 vessels changing cooperatives. The inshore cooperative allocations currently in effect are based on cooperative applications for the 2005 fishing year. Time is of the essence to have the 2006 and 2007 harvest specifications in effect because vessels begin fishing for inshore cooperative pollock allocations immediately after the start of the calendar year in order to harvest pollock when its value is high due to mature roe. Unless this delay is waived, several vessels will be fishing for the wrong AFA inshore cooperative once the 2006 and 2007 final harvest specifications are effective.

Authority: 16 U.S.C. 773 et seq.; 1540(f); 1801 et seq.; 1851 note; and 3631 et seq.

Dated: February 28, 2006.
James W. Balsiger,
Acting Deputy Assistant Administrator for Regulatory Programs, National Marine Fisheries Service.

[FR Doc. 06-1995 Filed 3-2-06; 8:45 am]

BILLING CODE 3510-22-P